NATIONAL AERONAUTICS AND SPACE ADMINISTRATION

[Notice 13-017]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: March 1, 2013.

FOR FURTHER INFORMATION CONTACT: Bryan A. Geurts, Patent Counsel, Goddard Space Flight Center, Mail Code 140.1, Greenbelt, MD 20771-0001; telephone (301) 286-7351; fax (301) 286-9502.

NASA Case No.: GSC-16193-1: Fine Control and Maintenance Algorithm for Visible Nulling Coronagraphy.

Sumara M. Thompson-King,
Deputy General Counsel.

[FR Doc. 2013-04802 Filed 2-28-13; 8:45 am]

BILLING CODE 7510-13-P